DEPARTMENT OF TRANSPORTATION

Federal Highway Administration

Notice of Final Federal Agency Actions on a Proposed U.S. Highway Project in California

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). These actions relate to the proposed replacement of the existing non-standard connector, from the southbound San Diego Freeway (Interstate-405 PM 39.4/40.5) to the northbound Ventura Freeway (U.S. Highway-101 PM 17.0/19.4), with an upgraded connector. The new 50 mph two-lane connector would replace the current 20 mph single-lane connector. The project area is located in the communities of Encino and Sherman Oaks, in the City of Los Angeles, in the County of Los Angeles, in the State of California.

DATES: By this notice, the FHWA is advising the public of final agency actions subject to 23 U.S.C. 139(l)(1). A claim seeking judicial review of the Federal agency actions on the project will be barred unless the claim is filed on or before January 26, 2009. If the Federal law that authorizes judicial review of a claim provides a time period of less than 180 days for filing such a claim, then that shorter time period still applies.

FOR FURTHER INFORMATION CONTACT: Eduardo Aguilar, Branch Chief, Division of Environmental Planning, (213) 897-8492, eduardo_aguilar@dot.ca.gov.

SUPPLEMENTARY INFORMATION: Effective July 1, 2007, the Federal Highway Administration (FHWA) assigned, and the California Department of Transportation (Caltrans) assumed environmental responsibilities for this project pursuant to 23 U.S.C. 327. Caltrans prepared an Environmental Assessment on a proposal to replace the existing non-standard connector, from the southbound San Diego Freeway (Interstate-405 PM 39.4/40.5) to the northbound Ventura Freeway (U.S. Highway-101 PM 17.0/19.4), with an upgraded connector, in the City of Los Angeles, in the County of Los Angeles, in the State of California.

The existing non-standard connector experiences extensive congestion, delays, and queue lengths throughout the day. The purpose of the project is to improve safety, operation, capacity, and traffic flow through the interchange by replacing the existing 20-mph single-lane connector, with a new 50-mph two-lane connector.

The anticipated permits include: Section 404 Individual Permit pursuant to the Clean Water Act (U.S. Army Corps of Engineers), Section 401 Water Quality Certification pursuant to the Clean Water Act (Regional Water Quality Control Board).

A public meeting was held on May 14, 2008 at Valley Beth Shalom, located at 15739 Ventura Boulevard, in the community of Encino, in the City of Los Angeles, CA. The Environmental Assessment, Finding of No Significant Impact (FONSI), which was approved on June 30, 2008 and other documents are available for public and agency review at Caltrans: 100 S. Main St., Los Angeles, CA 90012.

Catalog of Federal Domestic Assistance Program Number 20.205, Highway Planning and Construction. The regulations implementing Executive Order 12372 regarding intergovernmental consultation on Federal programs and activities apply to this program.

This notice applies to all Federal agency decisions as of the issuance date of this notice and all laws under which such actions were taken, including but not limited to:

General: National Environmental Policy Act (NEPA) [42 U.S.C. 4321-4351]; Federal Aid-Highway Act [23 U.S.C. 109].

Land: Landscape and Scenic Enhancement (Wildflowers) [23 U.S.C. 219].

Air: Clean Air Act 42 U.S.C. 7401-7671(q).

Wildlife: Endangered Species Act [16 U.S.C. 1531-1544 and section 1536], Fish and Wildlife Coordination Act [16 U.S.C. 661-667(d)], Migratory Bird Treaty Act [16 U.S.C. 703-712]. Section 4(f) of the U.S. Department of Transportation Act of 1966 [49 U.S.C. 303].

Historic and Cultural Resources: Section 106 of the National Historic Preservation Act of 1966, as amended [16 U.S.C. 470(aa)-11]; Archaeological Resources Protection Act of 1977 [16 U.S.C. 470(aa)-11]; Archaeological and Historic Preservation Act [16 U.S.C. 469-469(c)]; Native American Grave Protection and Repatriation Act (NAGPRA) [25 U.S.C. 3001-3013].

Social and Economic: Civil Rights Act of 1964 [42 U.S.C. 2000(d)-2000(d) (1)]; American Indian Religious Freedom Act [42 U.S.C. 1996]; Farmland Protection Policy Act (FPPA) [7 U.S.C. 4201-4209]; The Uniform Relocation Assistance Act and Real Property Acquisition Policies Act of 1970, as amended.

Hazardous Materials: Comprehensive Environmental Response, Compensation, and Liability Act (CERCLA), 42 U.S.C. 9601-9675; Superfund Amendments and Reauthorization Act of 1986 (SARA); Resource Conservation and Recovery Act (RCRA), 42 U.S.C. 6901-6992 (k).

Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l) (1).

Issued on: July 23, 2008.
Nancy E. Bobb,
Director, State Programs.

[FR Doc. E8-17367 Filed 7-28-08; 8:45 am]

BILLING CODE 4910-RY-P